DEPARTMENT OF ENERGY

Federal Energy Regulatory Commission

Combined Notice of Filings

Wednesday, January 7, 2009.

Take notice that the Commission has received the following Natural Gas Pipeline Rate and Refund Report filings:

Docket Numbers: RP96-272-086.

Applicants: Northern Natural Gas Company.

Description: Northern Natural Gas Company submits Second Revised Sheet 66B.01a et al. to FERC Electric Gas Tariff, Fifth Revised Volume 1, effective 1/1/09.

Filed Date: 12/30/2008.

Accession Number: 20081231-0109.

Comment Date: 5 p.m. Eastern Time on Monday, January 12, 2009.

Docket Numbers: RP96-331-020.

Applicants: National Fuel Gas Supply Corporation.

Description: National Fuel Gas Supply Corporation submits Substitute Eighth Revised Sheet 12 and Fifth Revised Sheet 13 to FERC Gas Tariff, Fourth Revised Volume 1, to be effective 12/1/08.

Filed Date: 12/30/2008.

Accession Number: 20081231-0108.

Comment Date: 5 p.m. Eastern Time on Monday, January 12, 2009.

Docket Numbers: RP96-383-090.

Applicants: Dominion Transmission, Inc.

Description: Dominion Transmission, Inc. submits Fourteenth Revised Sheet 1405 to FERC Gas Tariff, Third Revised Volume 1, to be effective 1/1/09.

Filed Date: 12/30/2008.

Accession Number: 20081231-0110.

Comment Date: 5 p.m. Eastern Time on Monday, January 12, 2009.

Docket Numbers: RP98-18-040.

Applicants: Iroquois Gas Transmission System, L.P.

Description: Iroquois Gas Transmission System, LP submits Second Revised Sheet 6F et al. to FERC Gas Tariff, First Revised Volume No 1, to be effective 1/1/09.

Filed Date: 12/31/2008.

Accession Number: 20090105-0003.

Comment Date: 5 p.m. Eastern Time on Monday, January 12, 2009.

Docket Numbers: RP99-176-178.

Applicants: Natural Gas Pipeline Company of America.

Description: Natural Gas Pipeline Company of America LLC submits two amendments to the Transportation Rate Schedule FTS Agreement with a negotiated rate exhibit with Eagle Energy Partners I, LP.

Filed Date: 12/31/2008.

Accession Number: 20090105-0002.

Comment Date: 5 p.m. Eastern Time on Monday, January 12, 2009.

Docket Numbers: RP99-176-179.

Applicants: Natural Gas Pipeline Company of America.

Description: Natural Gas Pipeline Company of America LLC submits their Transportation Rate Schedule FTS Agreement with a negotiated rate exhibit with ConocoPhillips Co as part of FERC Gas Tariff, Seventh Revised Volume 1, effective 12/1/08.

Filed Date: 12/31/2008.

Accession Number: 20090105-0001.

Comment Date: 5 p.m. Eastern Time on Monday, January 12, 2009.

Docket Numbers: RP02-534-011.

Applicants: Guardian Pipeline, LLC.

Description: Guardian Pipeline, LLC submits First Revised Sheet 9A to FERC Gas Tariff, Original Volume 1, to be effective 1/1/09.

Filed Date: 12/31/2008.

Accession Number: 20090105-0013.

Comment Date: 5 p.m. Eastern Time on Monday, January 12, 2009.

Docket Numbers: RP03-36-039.

Applicants: Dauphin Island Gathering Partners.

Description: Dauphin Island Gathering Partners submits Thirty Second Revised Sheet 10 to its FERC Gas Tariff, First Revised Volume 1, to be effective 1/2/09.

Filed Date: 01/02/2009.

Accession Number: 20090105-0233.

Comment Date: 5 p.m. Eastern Time on Wednesday, January 14, 2009.

Docket Numbers: RP09-61-002.

Applicants: Gulf Crossing Pipeline Company LLC.

Description: Gulf Crossing Pipeline Company LLC submits its Compliance Filing.

Filed Date: 01/05/2009.

Accession Number: 20090105-5109.

Comment Date: 5 p.m. Eastern Time on Wednesday, January 21, 2009.

Docket Numbers: RP09-193-000.

Applicants: Texas Eastern Transmission, L.P.

Description: Texas Eastern Transmission, LP submits Thirtieth Revised Sheet 25 et al. to Gas Tariff, Seventh Revised Volume 1, and First Revised Volume 2, to be effective 2/1/09.

Filed Date: 12/31/2008.

Accession Number: 20090105-0011.

Comment Date: 5 p.m. Eastern Time on Monday, January 12, 2009.

Docket Numbers: RP09-194-000.

Applicants: Tennessee Gas Pipeline Company.

Description: Tennessee Gas Pipeline Company submits Third Revised Sheet No 157 et al. to FERC Gas Tariff, Fifth Revised Volume No 1.

Filed Date: 12/31/2008.

Accession Number: 20090105-0014.

Comment Date: 5 p.m. Eastern Time on Monday, January 12, 2009.

Docket Numbers: RP09-195-000.

Applicants: National Fuel Gas Supply Corporation.

Description: National Fuel Gas Supply Corporation submits its 123rd Revised Sheet 9 to FERC Gas Tariff, Fourth Revised Volume 1, to be effective 1/1/09.

Filed Date: 12/31/2008.

Accession Number: 20090105-0012.

Comment Date: 5 p.m. Eastern Time on Monday, January 12, 2009.

Docket Numbers: RP09-196-000.

Applicants: Central Kentucky Transmission Company.

Description: Central Kentucky Transmission Company submits their Penalty Revenue Crediting Report for the 2006-2007 contract year.

Filed Date: 01/02/2009.

Accession Number: 20090106-0074.

Comment Date: 5 p.m. Eastern Time on Wednesday, January 14, 2009.

Docket Numbers: RP09-196-000.

Applicants: Central Kentucky Transmission Company.

Description: Central Kentucky Transmission Company submits the corrected Penalty Revenue Crediting Report for the 2007-2008 contract year under RP09-196.

Filed Date: 01/05/2009.

Accession Number: 20090106-0245.

Comment Date: 5 p.m. Eastern Time on Wednesday, January 14, 2009.

Docket Numbers: RP09-197-000.

Applicants: Columbia Gas Transmission, LLC.

Description: Columbia Gas Transmission LLC submits their Penalty Revenue Crediting Report for the 2006-2007 contract year.

Filed Date: 01/02/2009.

Accession Number: 20090106-0073.

Comment Date: 5 p.m. Eastern Time on Wednesday, January 14, 2009.

Docket Numbers: RP09-197-000.

Applicants: Columbia Gas Transmission, LLC.

Description: Columbia Gas Transmission, LLC submits a corrected annual Penalty Revenue Crediting Report for the 2007-2008 contract year.

Filed Date: 01/05/2009.

Accession Number: 20090106-0145.

Comment Date: 5 p.m. Eastern Time on Wednesday, January 14, 2009.

Docket Numbers: RP09-198-000.

Applicants: Columbia Gulf Transmission Company.

Description: Columbia Gulf Transmission Company submits their Penalty Revenue Crediting Report for the 2007-2008 contract year.

Filed Date: 01/02/2009.

Accession Number: 20090106-0072.

Comment Date: 5 p.m. Eastern Time on Wednesday, January 14, 2009.

Docket Numbers: RP09-199-000.

Applicants: Crossroads Pipeline Company.

Description: Crossroads Pipeline Co. submits their Penalty Revenue Crediting Report for the 2006-2007.

Filed Date: 01/02/2009.

Accession Number: 20090106-0079.

Comment Date: 5 p.m. Eastern Time on Wednesday, January 14, 2009.

Docket Numbers: RP09-199-000.

Applicants: Crossroads Pipeline Company.

Description: Crossroads Pipeline Company submits the corrected Penalty Revenue Crediting Report for the 2007-2008 contract year under RP09-199.

Filed Date: 01/05/2009.

Accession Number: 20090106-0244.

Comment Date: 5 p.m. Eastern Time on Wednesday, January 14, 2009.

Docket Numbers: RP09-201-000.

Applicants: Sabine Pipe Line LLC.

Description: Sabine Pipe Line LLC submits First Revised Sheet No. 310 et al. to FERC Gas Tariff, Original Volume No.1, to be effective 2/1/09.

Comment Date: 01/05/2009.

Accession Number: 20090106-0289.

Comment Date: 5 p.m. Eastern Time on Wednesday, January 21, 2009.

Docket Numbers: RP09-202-000.

Applicants: Midwestern Gas Transmission Company.

Description: Midwestern Gas Transmission Company submits Sixteenth Revised Sheet 273 to its FERC Gas Tariff, Third Revised Volume 1.

Filed Date: 01/05/2009.

Accession Number: 20090106-0288.

Comment Date: 5 p.m. Eastern Time on Wednesday, January 21, 2009.

Docket Numbers: CP06-449-003

Applicants: Kinder Morgan Louisiana Pipeline LLC

Description: Kinder Morgan Louisiana Pipeline, LLC's abbreviated application for limited amendment of certificate authority.

Filed Date: 12/30/2008.

Accession Number: 20090106-0071.

Comment Date: 5 p.m. Eastern Time on Monday, January 12, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-487 Filed 1-12-09; 8:45 am]

BILLING CODE 6717-01-P